DEPARTMENT OF HEALTH AND HUMAN SERVICES

Centers for Disease Control and Prevention

[Program Announcement 02136]

Reducing Sexual Risk for HIV Transmission in Substance-Using Men Who Have Sex With Men, Notice of Availability of Funds; Amendment

A notice announcing the availability of Fiscal Year 2002 funds for a cooperative agreement program to support research on Reducing Sexual Risk for HIV Transmission in Substance-Using Men Who Have Sex With Men, was published in the Federal Register dated May 24, 2002, Vol. 67, No. 101, pages 36608-36610. On page 36609, section E. Application Content, third sentence, should be amended to read: “The narrative should be no more than 40 double-spaced pages, printed on one side with one inch margins in a 12-point font. The budget and budget justification are not included in the 40 page limit.”

Dated: June 27, 2002.
Sandra R. Manning,
CGFM, Director, Procurement and Grants Office, Centers for Disease Control and Prevention (CDC).

[FR Doc. 02-16701 Filed 7-2-02; 8:45 am]

BILLING CODE 4163-18-P